DEPARTMENT OF COMMERCE

National Oceanic and Atmospheric Administration

Pacific Fishery Management Council; Public Meeting

AGENCY: National Marine Fisheries Service (NMFS), National Oceanic and Atmospheric Administration (NOAA), Commerce.

ACTION: Notice of a public meeting.

SUMMARY: The Pacific Fishery Management Council's (Council) Ad Hoc Amendment 24 Workgroup will hold a meeting by teleconference, which is open to the public.

DATES: The Workgroup's teleconference will occur 8:30 a.m. to 12:30 p.m. on Friday, August 31, 2012.

ADDRESSES: A public listening station will be open for the teleconference at the Pacific Fishery Management Council office, 7700 NE Ambassador Place, Small Conference Room, Portland, OR 97220-1384.

Council address: Pacific Fishery Management Council, 7700 NE Ambassador Place, Suite 101, Portland, OR 97220-1384.

FOR FURTHER INFORMATION CONTACT: Dr. Kit Dahl, Pacific Fishery Management Council; telephone: (503) 820-2280.

SUPPLEMENTARY INFORMATION: The Council formed the Amendment 24 Workgroup to develop proposals for modifying the process to periodically establish and adjust harvest levels and management measures for the Pacific Coast groundfish fishery. The Workgroup met August 1-2, 2012, to develop proposals for the Council to consider in November 2012. During this teleconference the Workgroup will review and discuss a draft of the report to be delivered at the November Council meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2280 at least 5 days prior to the meeting date.

Authority: 16 U.S.C. 1801 et seq.

Dated: August 7, 2012.
Tracey L. Thompson,
Acting Deputy Director, Office of Sustainable Fisheries, National Marine Fisheries Service.

[FR Doc. 2012-19631 Filed 8-9-12; 8:45 am]

BILLING CODE 3510-22-P